FEDERAL COMMUNICATIONS COMMISSION

47 CFR Parts 1, 61, and 69

[CC Docket No. 96-128; DA 03-4027]

Implementation of Pay Telephone Reclassification and Compensation Provisions of the Telecommunications Act of 1996

AGENCY: Federal Communications Commission.

ACTION: Notice of proposed rulemaking; comment periods extended.

SUMMARY: On February 3, 2004, the Commission granted a request by Evercom et al. to extend the deadlines for filing comments and reply comments regarding a Petition For Rulemaking or, in the Alternative, Petition To Address Referral Issues In A Pending Rulemaking (Wright Petition) filed in CC Docket No. 96-128.

DATES: Comments are due on or before March 10, 2004, and reply comments are due on or before March 31, 2004.

ADDRESSES: Federal Communications Commission, Marlene H. Dortch, Office of the Secretary, 445 12th Street, SW., TW-A325, Washington, DC 20554. See Supplementary Information for information on additional instructions for filing paper copies.

FOR FURTHER INFORMATION CONTACT: Joi Roberson Nolen, Wireline Competition Bureau, 202-418-1520.

SUPPLEMENTARY INFORMATION: On December 31, 2003, the Commission released the Wright Public Notice seeking comment on a Petition for Rulemaking or, in the Alternative, Petition to Address Referral Issues In a Pending Rulemaking (Wright Petition) filed by Martha Wright and other prison inmate and non-inmate petitioners. The Wright Public Notice stated that comments would be due 20 days after publication of the public notice in the Federal Register, and reply comments would be due 30 days after Federal Register publication. The Federal Register published the Wright Public Notice on January 20, 2004. See Implementation of the Pay Telephone Reclassification and Compensation Provisions of the Telecommunications Act of 1996, CC Docket No. 96-128, Notice of Proposed Rulemaking, 69 FR 2697, January 20, 2004.

On January 26, 2004, Evercom Systems, Inc., T-NETIX, Inc., and Corrections Corporation of America (CCA) (jointly, “commenters”) filed a joint motion to extend the deadlines for filing comments and reply comments in this proceeding. It is the policy of the Commission that extensions of time are not routinely granted. See 47 CFR 1.46(a). In this instance, however, the Bureau finds that the commenters have shown good cause for an extension of the deadline for filing comments and reply comments in this proceeding. Because of the complexity of the issues, the related necessary economic analysis, and the length of the pleadings, a limited extension is granted so that parties may file comments by March 10, 2004, and reply comments by March 31, 2004. This matter shall continue to be treated as a “permit-but-disclose” proceeding in accordance with the Commission's ex parte rules. See 47 CFR 1.1206. All procedures for filing comments discussed in the Federal Register publication of the Wright Public Notice remain in effect. See Implementation of the Pay Telephone Reclassification and Compensation Provisions of the Telecommunications Act of 1996, CC Docket No. 96-128, Notice of Proposed Rulemaking, 69 FR 2697, January 20, 2004.

Federal Communications Commission.
Marlene H. Dortch,
Secretary.

[FR Doc. 04-3463 Filed 2-17-04; 8:45 am]

BILLING CODE 6712-01-P